DEPARTMENT OF JUSTICE

Bureau of Alcohol, Tobacco, Firearms and Explosives

[OMB Number 1140-0071]

Agency Information Collection Activities; Proposed eCollection of eComments Requested; Notification to Fire Safety Authority of Storage of Explosive Materials

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0071 (Notification to Fire Safety Authority of Storage of Explosive Materials) is being revised due to a change in burden, since there is a reduction in both the total responses and total burden hours due to less respondents, although there is a slight increase in the cost burden due to higher postage costs since 2015.

DATES: The comment period for the proposed information collection published on June 28, 2018 (83 FR 30458) is reopened. Comments are encouraged and will be accepted for an additional 30 days until September 28, 2018.

FOR FURTHER INFORMATION CONTACT: If you have additional comments, particularly with respect to the estimated public burden or associated response time, have suggestions, need a copy of the proposed information collection instrument with instructions, or desire any other additional information, please contact Anita Scheddel, Program Analyst, Explosives Industry Programs Branch, either by mail 99 New York Ave. NE, Washington, DC 20226, or by email at eipb-informationcollection@atf.gov, or by telephone at 202-648-7158. Written comments and/or suggestions can also be directed to the Office of Management and Budget, Office of Information and Regulatory Affairs, Attention Department of Justice Desk Officer, Washington, DC 20503 or sent to OIRA_submissions@omb.eop.gov.

SUPPLEMENTARY INFORMATION: The proposed information collection was previously published in the Federal Register, on June 28, 2018 (83 FR 30458), allowing for a 60-day comment period. Written comments and suggestions from the public and affected agencies concerning the proposed collection of information are encouraged. Your comments should address one or more of the following four points:

— Evaluate whether the proposed collection of information is necessary for the proper performance of the functions of the agency, including whether the information will have practical utility;

— Evaluate the accuracy of the agency's estimate of the burden of the proposed collection of information, including the validity of the methodology and assumptions used;

— Evaluate whether and if so how the quality, utility, and clarity of the information to be collected can be enhanced; and

— Minimize the burden of the collection of information on those who are to respond, including through the use of appropriate automated, electronic, mechanical, or other technological collection techniques or other forms of information technology, e.g., permitting electronic submission of responses.

Overview of This Information Collection

(1) Type of information collection: Revision of a currently approved collection.

(2) The title of the form/collection: Notification to Fire Safety Authority of Storage of Explosive Materials.

(3) The agency form number, if any, and the applicable component of the Department sponsoring the collection:

Form number: None.

Component: Bureau of Alcohol, Tobacco, Firearms and Explosives, U.S. Department of Justice.

(4) Affected public who will be asked or required to respond, as well as a brief abstract:

Primary: Business or other for-profit.

Other: Individuals or households, Farms, and State, Local, or Tribal Government.

Abstract: The collection of information is necessary for the safety of emergency response personnel responding to fires at sites where explosives are stored. The information is provided both orally and in writing to the authority having jurisdiction for fire safety in the locality in which explosives are stored.

(5) An estimate of the total number of respondents and the amount of time estimated for an average respondent to respond: An estimated 975 respondents will respond once to this information collection, and it will take each respondent approximately 30 minutes to complete their responses on the template provided by ATF.

(6) An estimate of the total public burden (in hours) associated with the collection: The estimated annual public burden associated with this collection is 488 hours, which is equal to 975 (# of respondents) * 1 (# of responses per respondents) * .5 (30 minutes).

(7) An explanation of the change in estimate: The total responses and burden hours associated with this IC were reduced by 50 and 25 respectively, due to less respondents since the previous renewal in 2015. However, the total costs for this IC have increased by $27, due to an increase in mailing costs from 45 cents in 2015 to 50 cents in 2018.

If additional information is required contact: Melody Braswell, Department Clearance Officer, United States Department of Justice, Justice Management Division, Policy and Planning Staff, Two Constitution Square, 145 N Street NE, 3E.405A, Washington, DC 20530.

Dated: August 24, 2018.
Melody Braswell,
Department Clearance Officer for PRA, U.S. Department of Justice.

[FR Doc. 2018-18733 Filed 8-28-18; 8:45 am]

BILLING CODE 4410-14-P